SECURITIES AND EXCHANGE COMMISSION

Sunshine Act Meeting

FEDERAL REGISTER CITATION OF PREVIOUS ANNOUNCEMENT: [78 FR 14141, March 4, 2013]

STATUS: Open Meeting.

PLACE: 100 F Street NE, Washington, DC.

DATE AND TIME OF PREVIOUSLY ANNOUNCED MEETING: Wednesday, March 6, 2013.

CHANGE IN THE MEETING: Date and Time Change.

The Open Meeting scheduled for Wednesday, March 6, 2013 at 10:00 a.m., has been changed to Thursday, March 7, 2013 at 1:00 p.m.

At times, changes in Commission priorities require alterations in the scheduling of meeting items. For further information and to ascertain what, if any, matters have been added, deleted or postponed, please contact: The Office of the Secretary at (202) 551-5400.

Dated: March 6, 2013.
Kevin M. O'Neill,
Deputy Secretary.

[FR Doc. 2013-05532 Filed 3-6-13; 11:15 am]

BILLING CODE 8011-01-P